ENVIRONMENTAL PROTECTION AGENCY

40 CFR Part 52

[EPA-R09-OAR-2015-0164; FRL-9927-76-Region 9]

Revisions to the California State Implementation Plan, Feather River Air Quality Management District

AGENCY: Environmental Protection Agency (EPA).

ACTION: Direct final rule.

SUMMARY: The Environmental Protection Agency (EPA) is taking direct final action to approve revisions to the Feather River Air Quality Management District (FRAQMD or the District) portion of the California State Implementation Plan (SIP). Included in this approval are the following three SIP demonstrations from FRAQMD: 2006 Reasonably Available Control Technology (RACT) Analysis for State Implementation Plan (SIP), November 2006; Reasonably Available Control Technology State Implementation Plan Revision Negative Declaration for Control Techniques Guidelines Issued 2006-2008, June 1, 2009 and; Reasonably Available Control Technology Analysis and Negative Declarations, July 3, 2014. The first two demonstrations address the 1997 8-hour National Ambient Air Quality Standards (NAAQS) for ozone, and the third demonstration addresses the 2008 8-hour NAAQS for ozone. These submitted SIP revisions contain FRAQMD's negative declarations for volatile organic compound (VOC) source categories. We are approving the submitted SIP revisions under the Clean Air Act as amended in 1990 (CAA or the Act). We are also approving a local rule to regulate VOC emissions from gasoline dispensing facilities.

DATES: This rule is effective on September 8, 2015 without further notice, unless EPA receives adverse comments by August 7, 2015. If we receive such comments, we will publish a timely withdrawal in the Federal Register to notify the public that this direct final rule will not take effect.

ADDRESSES: Submit comments, identified by docket number EPA-R09-OAR-2015-0164, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment. Electronic files should avoid the use of special characters, any form of encryption, and be free of any defects or viruses.

Docket: Generally, documents in the docket for this action are available electronically at www.regulations.gov and in hard copy at EPA Region IX, 75 Hawthorne Street, San Francisco, California. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: James Shears, EPA Region IX, (213) 244-1810, shears.james@epa.gov.

SUPPLEMENTARY INFORMATION: Throughout this document, “we,” “us” and “our” refer to EPA.

Table of Contents

I. The State's Submittal

A. What documents and what rule did the state submit?

B. Are there other versions of the documents and rule?

C. What is the purpose of the RACT SIP submissions and the purpose of the submitted rule revisions?

II. EPA's Evaluation and Action

A. How is EPA evaluating the RACT SIP submissions and the rule?

B. Do the RACT SIP submissions and the rule meet the evaluation criteria?

C. EPA's Recommendations To Strengthen the RACT SIP and To Further Improve the Rule

D. Public Comment and Final Action

III. Incorporation by Reference

IV. Statutory and Executive Order Reviews

I. The State's Submittal.

A. What documents and what rule did the state submit?

Table 1 lists the RACT SIP documents addressed by this action with the date that each one was adopted by the local air agency and submitted to EPA by the California Air Resources Board (CARB).

Table 1—Submitted Documents
Local agency | Document | Adopted | Submitted
FRAQMD | 2006 Reasonably Available Control Technology (RACT) Analysis for State Implementation Plan (SIP) (“2006 RACT SIP”) | 12/4/06 | 7/11/07
FRAQMD | Reasonably Available Control Technology State Implementation Plan Revision, Negative Declaration for Control Techniques Guidelines Issued 2006-2008 (“2009 RACT SIP”) | 6/1/09 | 10/27/09
FRAQMD | Reasonably Available Control Technology Analysis and Negative Declarations (“2014 RACT SIP”) | 8/4/14 | 9/29/14

The FRAQMD 2006 RACT SIP submittal became complete by operation of law on January 11, 2008, and the FRAQMD 2009 RACT SIP submittal became complete by operation of law on April 27, 2010, each pursuant to CAA section 110(k)(1)(B). On January 23, 2015, EPA determined that the submittal for the FRAQMD 2014 RACT SIP met the completeness criteria in 40 CFR part 51 Appendix V, which must be met before formal EPA review.

For the rule submitted by the state, Table 2 lists the rule we are approving with the dates it was adopted by the local air agency and submitted to EPA by CARB.

Table 2—Submitted Rule
Local agency | Rule No. | Document | Amended | Submitted
FRAQMD | 3.8 | Gasoline Dispensing Facilities | 6/2/14 | 11/6/14

B. Are there other versions of these documents and the rule?

There are no previous submitted versions of FRAQMD's 2006, 2009, and 2014 RACT SIPs. For Rule 3.8, we approved an early version: The Sutter County Rule 3.08(3.8), “Storage and Transfer of Gasoline”, on May 3, 1982 (47 FR 18856). With the formation of FRAQMD in 1991, this rule was adopted with identical language in June 1991 to apply beyond just Sutter County to the entire larger FRAQMD area.

C. What is the purpose of the RACT SIP submissions and the submitted rule revision?

VOCs and nitrogen oxides (NOX) help produce ground-level ozone and smog, which harm human health and the environment. Section 110(a) of the CAA requires states to submit enforceable regulations that control VOC and NOX emissions. Sections 182(b)(2) and (f) require that SIPs for ozone nonattainment areas classified as moderate or above require implementation of RACT for any source covered by an EPA Control Techniques Guidance (CTG) document and any other major stationary source of VOCs or NOX. FRAQMD is subject to this requirement as the southern part of Sutter County in FRAQMD is designated and classified as a severe ozone nonattainment area for the 1997 and 2008 8-hour NAAQS for ozone (see 40 CFR 81.305). Therefore, FRAQMD must, at a minimum, adopt RACT-level controls for all sources covered by a CTG document and for all major non-CTG stationary sources of VOCs or NOX in south Sutter County. The District adopted its 2006 RACT SIP, with negative declarations, on December 4, 2006. FRAQMD adopted its 2009 RACT SIP revision, which included negative declarations for 11 new or updated CTGs issued from 2006 to 2008, on June 1, 2009. FRAQMD adopted its 2014 RACT SIP, with negative declarations, on August 2014. No comments were received on any of the three RACT SIP demonstrations. Along with the 2014 RACT SIP adoption, FRAQMD adopted Rule 3.8 which is designed to limit VOC emissions from displaced gasoline vapors while transferring gasoline into storage tanks and transport vessels. This rule is intended to fully satisfy the CTG design criteria for Stage I vapor control systems.

II. EPA's Evaluation and Action

A. How is EPA evaluating the RACT SIP submissions and the submitted rule revision?

FRAQMD regulates the Yuba County and Sutter County portions of the Sacramento Valley Air Basin. The southern part of Sutter County is designated and classified as a severe ozone nonattainment area for the 1997 and 2008 8-hour national ambient air quality standards (NAAQS) for ozone (40 CFR 81.305). CAA Section 182(b)(2) and (f), as well as 40 CFR 51.912(a)(1) require that SIPs for ozone nonattainment areas classified as moderate or above require implementation of RACT for any source covered by a CTG document and any other major stationary source of VOCs or NOX. Any stationary source that emits or has a potential to emit at least 25 tons per year (tpy) of VOCs or NOX in a severe ozone nonattainment area is considered a major stationary source (see CAA sections 182(b(2)) and (f) and 302(j)). Where there are no existing sources covered by a particular CTG document or no other major stationary sources of VOCs or NOX, states may, in lieu of adopting RACT requirements, adopt negative declarations certifying that there are no such sources in the relevant nonattainment area (see Memorandum from William T. Harnett to Regional Air Division Directors, (May 18, 2006), “RACT Qs & As—Reasonably Available Control Technology (RACT) Questions and Answers” page 7).

SIP rules must be enforceable (see CAA section 110(a)(2)), must not interfere with applicable requirements concerning attainment and reasonable further progress or other CAA requirements (see CAA section 110(l)), and must not modify certain SIP control requirements in nonattainment areas without ensuring equivalent or greater emissions reductions (see CAA section 193).

Guidance and policy documents that we used to evaluate CAA section 182 RACT SIPs for FRAQMD include the following:

1. “Final Rule to Implement the 8-Hour Ozone National Ambient Air Quality Standard—Phase 2” (70 FR 71612; November 29, 2005).

2. “Air Quality Designations and Classifications for the 8-Hour Ozone National Ambient Air Quality Standards; Early Action Compact Areas With Deferred Dates”—Final Rule (69 FR 23858; April 30, 2004).

3. “State Implementation Plans, General Preamble for the Implementation of Title I of the Clean Air Act Amendments of 1990” (57 FR 13498; April 16, 1992).

4. Issues Relating to VOC Regulation Cutpoints, Deficiencies, and Deviations: Clarification to Appendix D of November 24, 1987 Federal Register, May 25, 1988, Revised January 11, 1990, U.S. EPA, Air Quality Management Division, Office of Air Quality Planning and Standards (“The Blue Book”).

5. Guidance Document for Correcting Common VOC and Other Rule Deficiencies, August 21, 2001, U.S. EPA Region IX (the “Little Bluebook”).

6. “State Implementation Plans; Nitrogen Oxides Supplement to the General Preamble for the Implementation of Title I of the Clean Air Act Amendments of 1990” (57 FR 55620, November 25, 1992) (“the NOX Supplement”).

7. Memorandum from William T. Harnett to Regional Air Division Directors, (May 18, 2006), “RACT Qs & As—Reasonably Available Control Technology (RACT) Questions and Answers.”

8. RACT SIPs, Letter dated March 9, 2006 from EPA Region IX (Andrew Steckel) to CARB (Kurt Karperos) describing Region IX's understanding of what constitutes a minimally acceptable RACT SIP.

9. “Final Rule to Implement the 1997 8-Hour Ozone National Ambient Air Quality Standard: Classification of Areas That Were Initially Classified Under Subpart 1; Revision of the Anti-Backsliding Provisions To Address 1-Hour Contingency Measure Requirements; Deletion of Obsolete 1-Hour Standard Provision”—Final Rule (77 FR 28424; May 14, 2012).

10. “Model Volatile Organic Compound Rules for Reasonably Available Control Technology”, EPA (June 1992).

11. Beyond VOC RACT Requirements”, EPA (April 1995).

12. EPA's CTGs http://www.epa.gov/glo/SIPToolkit/ctgs.html.

13. CARB's emissions inventory database http://www.arb.ca.gov/app/emsinv/facinfo/facinfo.php

14. FRAQMD, CARB and EPA Region IX databases of FRAQMD rules—FRAQMD: http://myairdistrict.com/index.php?Itemid=71

CARB: http://www.arb.ca.gov/ridb.htm

EPA: http://epa.gov/region09/air/sips/index.html

15. Implementation of the 2008 National Ambient Air Quality Standards for Ozone: State Implementation Plan Requirements”—Final Rule (80 FR 12264; March 6, 2015).

B. Does the RACT SIP submission meet the evaluation criteria?

The 2006, 2009 and 2014 RACT SIPs each includes three elements, as described further below:

1. Evaluations of VOC and NOX rules for sources subject to a CTG.

2. Negative declarations where there are no facilities subject to a CTG.

3. Negative declaration for major non-CTG sources of VOC or NOX.

A summary of our evaluation of each element is provided below. For additional information concerning our evaluation, please refer to the Technical Support Documents (TSDs) concerning the 2006, 2009 and 2014 RACT SIPs and FRAQMD Rule 3.8, which are available in the docket for this action.

1. Evaluations of VOC and NOX Rules for Sources Subject to a CTG

We believe that Rule 3.8 is consistent with the relevant requirements, as well as policy and guidance regarding enforceability, RACT, and SIP relaxations. We are not aware of information suggesting that additional controls are needed to fulfill RACT.

2. Negative Declarations Where There are no Facilities Subject to a CTG

Negative declarations are only required for CTG source categories for which the District has no sources covered by the CTG. A negative declaration is not required for non-CTG source categories. Table 3 below lists the CTG source categories for the 2006, 2009 and 2014 RACT SIPs. The District indicated it does not currently have, nor does it anticipate sources subject to the CTGs in these categories in the future. We searched CARB's emissions inventory database to verify there are no facilities in FRAQMD that might be subject to the CTGs listed below. We concur with the District's negative declarations.

Table 3—Negative Declarations for the 2006, 2009 and 2014 RACT SIPS
CTG source category | Negative declaration CTG reference document | 2006 RACT SIP | 2009 RACT SIP | 2014 RACT SIP
Aerospace | EPA-453/R-97-004—Control of VOC Emissions from Coating Operations at Aerospace Manufacturing and Rework | X |  | X
Automobile Coating; Metal Coil Container, & Closure; Paper & Fabric | EPA-450/2-77-008—Control of Volatile Organic Emissions from Existing Stationary Sources—Volume II Surface Coating of Cans, Coils, Paper, Fabrics, Automobiles, and Light-Duty Trucks | X |  | X
Automobile and Light-Duty Truck Assembly Coatings | EPA-453/R-08-006—Control Techniques Guidelines for Automobile and Light-Duty Assembly Coatings |  | X | X
Cutback Asphalt | EPA-450/2-77-037—Control of Volatile Organic Emissions from Use of Cutback Asphalt | X |  | X
Dry Cleaning | EPA-450/3-82-009—Control of Volatile Organic Compound Emissions from Large Petroleum Dry Cleaners | X |  | X
Flat Wood Paneling Coatings | EPA-453/R-06-004—Control Techniques Guidelines for Flat Wood Paneling Coatings |  | X | X
Fiberglass Boat Manufacturing Materials | EPA-453/R-08-004—Control Techniques Guidelines for Fiberglass Boat Manufacturing Materials |  | X | X
Flexible Package Printing | EPA-453/R06-003—Control Techniques Guidelines for Flexible Package Printing |  | X | X
Gasoline Loading Terminal | EPA-450/2-77-026—Control of Hydrocarbons from Tank Truck Gasoline Loading Terminals | X |  | X
Gasoline Trucks | EPA-450/2-78-051—Control of Volatile Organic Compound Leaks from Gasoline Tank Trucks and Vapor Collection Systems | X |  | X
Gasoline Bulk Plants | EPA-450/2-77-035—Control of Volatile Organic Emissions from Gasoline Bulk Plants | X |  | X
Graphic Arts Rotogravure and Flexography | EPA-450/2-78-033—Control of Volatile Organic Emissions from Existing Stationary Sources—Volume VIII: Rotogravure and Flexography | X |  | X
Industrial Cleaning Solvents | EPA-453/R-06-001—Control Techniques Guidelines for Industrial Cleaning Solvents | X | X | X
Large Appliance Coating | EPA-450/2-77-034—Control of Volatile Organic Emissions from Existing Stationary Sources, Volume V: Surface Coating of Large Appliances | X |  | X
Large Appliance Coating | EPA-453/R-07-004—Control Techniques for Large Appliance Coatings |  | X | X
Magnet Wire Coating | EPA-450/2-77-033—Control of Volatile Organic Emissions from Existing Stationary Sources—Volume IV: Surface Coating of Insulation of Magnet Wire | X |  | X
Metal Can Coating; Metal Coil Coating | EPA-450/2-77-008—Control of Volatile Organic Emissions from Existing Stationary Sources—Volume II: Surface Coating of Cans, Coils, Paper, Fabrics, Automobiles, and Light-Duty Trucks | X |  | X
Metal Furniture | EPA-450/2-77-032—Control of Volatile Organic Emissions from Existing Stationary Sources—Volume III: Surface Coating of Metal Furniture | X |  | X
Metal Furniture Coatings | EPA-453/R-07-005—Control Techniques Guidelines for Metal Furniture Coatings |  | X | X
Metal Parts and Products | EPA-450/2-78-015—Control of Volatile Organic Emissions from Existing Stationary Sources—Volume VI: Surface Coating of Miscellaneous Parts and Products | X |  | X
Miscellaneous Industrial Adhesives | EPA-453/R-08-005—Control Techniques Guidelines for Miscellaneous Industrial Adhesives | X | X | X
Miscellaneous Metal and Plastic Parts Coatings | EPA-453/R-08-003—Control Techniques Guidelines for Miscellaneous Metal and Plastic Parts Coatings |  | X | X
Natural Gas/Gasoline | EPA-450/2-83-007—Control of VOC Equipment Leaks from Natural Gas/Gasoline Processing Plants | X |  | X
Offset Lithographic Printing and Letterpress Printing | EPA-453/R-06-002—Control Techniques Guidelines for Offset Lithographic Printing and Letterpress Printing |  | X | X
Paper and Fabric Coating | EPA-450/2-77-008—Control of Volatile Organic Emissions from Existing Stationary Sources—Volume II: Surface Coating of Cans, Coils, Paper, Fabrics, Automobiles, and Light-Duty Trucks | X |  | X
Paper, Film, and Foil Coatings | EPA-453/R-07-003—Control Techniques Guidelines for Paper, Film, and Foil Coatings |  | X | X
Perchloroethylene Dry Cleaning Systems¹ | EPA-450/2-78-050—Control of Volatile Organic Emissions from Perchloroethylene Dry Cleaning Systems |  |  | X
Petroleum Liquid Storage Tanks | EPA-450/2-77-036—Control of VOC Emissions from Storage of Petroleum Liquids in Fixed Roof Tanks | X |  | X
Petroleum Liquid Storage Tanks | EPA-450/2-78-047—Control of VOC Emissions from Petroleum Liquid Storage in External Floating Roof Tanks | X |  | X
Pharmaceutical Products | EPA-450/2-78-029—Control of Volatile Organic Emissions from Manufacture of Synthesized Pharmaceutical Products | X |  | X
Resin Manufacturing | EPA-450/3-83-008—Control of VOC Emissions from Manufacture of High-Density Polyethylene, Polypropylene, and Polystyrene Resins | X |  | X
Resin Manufacturing | EPA-450/3-83-006—Control of VOC Fugitive Emissions from Synthetic Organic Chemical Polymer and Resin Manufacturing Equipment | X |  | X
Refineries | EPA-450/2-77-025—Control of Refinery Vacuum Producing Systems, Wastewater Separators, and Process Unit Turnarounds | X |  | X
Refineries | EPA-450/2-78-036—Control of VOC Leaks from Petroleum Refinery Equipment | X |  | X
Rubber Tire Manufacturing | EPA-450/2-78-030—Control of Volatile Organic Emissions from Manufacture of Pneumatic Rubber Tires | X |  | X
Ship Coatings | 61 FR 44050 Shipbuilding and Ship Repair Operations (Surface Coating) | X |  | X
Ship Coatings | EPA-453/R-94-032—Alternative Control Technology Document—Surface Coating Operations at Shipbuilding and Ship Repair Operations (Surface Coating) |  |  | X
Solvent Cleaning Degreasers | EPA-450/2-77-022—Control of Volatile Organic Emissions from Solvent Metal Cleaning | X |  | X
Synthetic Organic Chemical Manufacturing | EPA-450/3-84-015—Control of VOC Emissions from Air Oxidation Processes in Synthetic Organic Chemical Manufacturing Industry | X |  | X
Synthetic Organic Chemical Manufacturing | EPA-450/4-91-031—Control of VOC Emissions from Reactor Processes and Distillation Operations in Synthetic Organic Chemical Manufacturing Industry | X |  | X
Wood Coating Factory Surface of Flat Wood Paneling | EPA-450/2-78-032—Control of Volatile Organic Emissions from Existing Stationary Sources—Volume VII: Factory Surface of Flat Wood Paneling | X |  | X
Wood Furniture Coating | EPA-453/R-96-007—Control of VOC Emissions from Wood Furniture Manufacturing Operations | X |  | X
¹ This item is not a CTG because EPA exempted perchloroethylene as a VOC for purposes of ozone SIPs. 61 FR 4588 (February 7, 1996) (codified at 40 CFR 51.100(s)(1)).

3. Negative Declaration for Major Non-CTG Sources of VOC or NOX

The 2006, 2009 and 2014 RACT SIPs each included a negative declaration for major non-CTG sources of VOC and NOX. EPA agrees that there are no major non-CTG sources of NOX or VOCs in the south Sutter County nonattainment area.

4. Conclusion

We find that FRAQMD's 2006, 2009, and 2014 RACT SIPs including the negative declarations and the Rule 3.8 revisions, adequately demonstrate that they satisfy RACT for the 1997 and 2008 8-hour ozone NAAQS. Our TSDs have more information on our evaluation of the three RACT SIP submissions and Rule 3.8.

C. EPA Recommendations To Strengthen the RACT SIPs and the Rule

Our TSD for Rule 3.8 describes additional revisions that we recommend for the next time FRAQMD modifies the rule.

D. Public Comment and Final Action

As authorized in section 110(k)(3) of the Act, EPA is fully approving the submitted SIP revisions because we believe they fulfill all relevant requirements. We do not think anyone will object to this approval, so we are finalizing it without proposing it in advance. However, in the Proposed Rules section of this Federal Register, we are simultaneously proposing approval of the same SIP revisions. If we receive adverse comments by August 7, 2015, we will publish a timely withdrawal in the Federal Register to notify the public that the direct final approval will not take effect and we will address the comments in a subsequent final action based on the proposal. If we do not receive timely adverse comments, the direct final approval will be effective without further notice on September 8, 2015. This will incorporate these documents and rule into the federally enforceable SIP.

Please note that if EPA receives adverse comment on a specific provision of this SIP revision and if that provision may be severed from the remainder of the SIP revision, EPA may adopt as final those provisions of the SIP revision that are not the subject of an adverse comment.

III. Incorporation by Reference

In this rule, the EPA is finalizing regulatory text that includes incorporation by reference. In accordance with requirements of 1 CFR 51.5, EPA is finalizing the incorporation by reference of the FRAQMD rule described in the amendments to 40 CFR 52 set forth below. EPA has made, and will continue to make, this document available electronically through www.regulations.gov and in hard copy at the appropriate EPA office (see the ADDRESSES section of this preamble for more information).

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address disproportionate human health or environmental effects with practical, appropriate, and legally permissible methods under Executive Order 12898 (59 FR 7629, February 16, 1994).

In addition, the SIPs and the rule are not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 8, 2015. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the Proposed Rules section of today's Federal Register, rather than file an immediate petition for judicial review of this direct final rule, so that EPA can withdraw this direct final rule and address the comment in the proposed rulemaking. This action may not be challenged later in proceedings to enforce its requirements (see section 307(b)(2)).

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: April 30, 2015.
Jared Blumenfeld,
Regional Administrator, Region IX.

Part 52, Chapter I, Title 40 of the Code of Federal Regulations is amended as follows:

PART 52—[AMENDED]

1. The authority citation for part 52 continues to read as follows:

Authority: 42 U.S.C. 7401 et seq.

Subpart F—California

2. Section 52.220 is amended by adding paragraphs (c)(382)(ii)(B), (c)(457)(i)(A)(3), (c)(459) and (c)(460) to read as follows:

§ 52.220 Identification of plan.

* * * * *

(c) * * *

(382) * * *

(ii) * * *

(B) Feather River Air Quality Management District.

(1) 2006 Reasonably Available Control Technology (RACT) Analysis for State Implementation Plan (SIP) (“2006 RACT SIP”) as adopted on December 4, 2006.

* * * * *

(457) * * *

(i) * * *

(A) * * *

(3) Rule 3.8, “Gasoline Dispensing Facilities,” amended on June 2, 2014.

* * * * *

(459) The following plan revision was submitted on September 29, 2014, by the Governor's designee.

(i) [Reserved]

(ii) Additional Material.

(A) Feather River Air Quality Management District.

(1) Reasonably Available Control Technology Analysis and Negative Declarations (“2014 RACT SIP”), as adopted on August 4, 2014.

(460) New and amended regulations for the following AQMDs were submitted on November 5, 2014 by the Governor's designee.

(i) Incorporation by Reference.

(A) Feather River Air Quality Management District.

(1) Rule 3.8, “Gasoline Dispensing Facilities,” amended on June 2, 2014.

3. Section 52.222 is amended by adding paragraph (a)(11) to read as follows:

§ 52.222 Negative declarations.

(a) * * *

(11) Feather River Air Quality Management District.

CTG source category | Negative declaration CTG reference document | 2006 RACT SIP submitted 7/11/07 | 2009 RACT SIP submitted 10/27/09 | 2014 RACT SIP submitted 9/29/14
Aerospace | EPA-453/R-97-004—Control of VOC Emissions from Coating Operations at Aerospace Manufacturing and Rework | X |  | X
Automobile Coating; Metal Coil Container, & Closure; Paper & Fabric | EPA-450/2-77-008—Control of Volatile Organic Emissions from Existing Stationary Sources—Volume II Surface Coating of Cans, Coils, Paper, Fabrics, Automobiles, and Light-Duty Trucks | X |  | X
Automobile and Light-Duty Truck Assembly Coatings | EPA-453/R-08-006—Control Techniques Guidelines for Automobile and Light-Duty Assembly Coatings |  | X | X
Cutback Asphalt | EPA-450/2-77-037—Control of Volatile Organic Emissions from Use of Cutback Asphalt | X |  | X
Dry Cleaning | EPA-450/3-82-009—Control of Volatile Organic Compound Emissions from Large Petroleum Dry Cleaners | X |  | X
Flat Wood Paneling Coatings | EPA-453/R-06-004—Control Techniques Guidelines for Flat Wood Paneling Coatings |  | X | X
Fiberglass Boat Manufacturing Materials | EPA-453/R-08-004—Control Techniques Guidelines for Fiberglass Boat Manufacturing Materials |  | X | X
Flexible Package Printing | EPA-453/R06-003—Control Techniques Guidelines for Flexible Package Printing |  | X | X
Gasoline Loading Terminal | EPA-450/2-77-026—Control of Hydrocarbons from Tank Truck Gasoline Loading Terminals | X |  | X
Gasoline Trucks | EPA-450/2-78-051—Control of Volatile Organic Compound Leaks from Gasoline Tank Trucks and Vapor Collection Systems | X |  | X
Gasoline Bulk Plants | EPA-450/2-77-035—Control of Volatile Organic Emissions from Gasoline Bulk Plants | X |  | X
Graphic Arts Rotogravure and Flexography | EPA-450/2-78-033—Control of Volatile Organic Emissions from Existing Stationary Sources—Volume VIII: Rotogravure and Flexography | X |  | X
Industrial Cleaning Solvents | EPA-453/R-06-001—Control Techniques Guidelines for Industrial Cleaning Solvents | X | X | X
Large Appliance Coating | EPA-450/2-77-034—Control of Volatile Organic Emissions from Existing Stationary Sources, Volume V: Surface Coating of Large Appliances | X |  | X
Large Appliance Coating | EPA-453/R-07-004—Control Techniques for Large Appliance Coatings |  | X | X
Magnet Wire Coating | EPA-450/2-77-033—Control of Volatile Organic Emissions from Existing Stationary Sources—Volume IV: Surface Coating of Insulation of Magnet Wire | X |  | X
Metal Can Coating; Metal Coil Coating | EPA-450/2-77-008—Control of Volatile Organic Emissions from Existing Stationary Sources—Volume II: Surface Coating of Cans, Coils, Paper, Fabrics, Automobiles, and Light-Duty Trucks | X |  | X
Metal Furniture | EPA-450/2-77-032—Control of Volatile Organic Emissions from Existing Stationary Sources—Volume III: Surface Coating of Metal Furniture | X |  | X
Metal Furniture Coatings | EPA-453/R-07-005—Control Techniques Guidelines for Metal Furniture Coatings |  | X | X
Metal Parts and Products | EPA-450/2-78-015—Control of Volatile Organic Emissions from Existing Stationary Sources—Volume VI: Surface Coating of Miscellaneous Parts and Products | X |  | X
Miscellaneous Industrial Adhesives | EPA-453/R-08-005—Control Techniques Guidelines for Miscellaneous Industrial Adhesives | X | X | X
Miscellaneous Metal and Plastic Parts Coatings | EPA-453/R-08-003—Control Techniques Guidelines for Miscellaneous Metal and Plastic Parts Coatings |  | X | X
Natural Gas/Gasoline | EPA-450/2-83-007—Control of VOC Equipment Leaks from Natural Gas/Gasoline Processing Plants | X |  | X
Offset Lithographic Printing and Letterpress Printing | EPA-453/R-06-002—Control Techniques Guidelines for Offset Lithographic Printing and Letterpress Printing |  | X | X
Paper and Fabric Coating | EPA-450/2-77-008—Control of Volatile Organic Emissions from Existing Stationary Sources—Volume II: Surface Coating of Cans, Coils, Paper, Fabrics, Automobiles, and Light-Duty Trucks | X |  | X
Paper, Film, and Foil Coatings | EPA-453/R-07-003—Control Techniques Guidelines for Paper, Film, and Foil Coatings |  | X | X
Petroleum Liquid Storage Tanks | EPA-450/2-77-036—Control of VOC Emissions from Storage of Petroleum Liquids in Fixed Roof Tanks | X |  | X
Petroleum Liquid Storage Tanks | EPA-450/2-78-047—Control of VOC Emissions from Petroleum Liquid Storage in External Floating Roof Tanks | X |  | X
Pharmaceutical Products | EPA-450/2-78-029—Control of Volatile Organic Emissions from Manufacture of Synthesized Pharmaceutical Products | X |  | X
Resin Manufacturing | EPA-450/3-83-008—Control of VOC Emissions from Manufacture of High-Density Polyethylene, Polypropylene, and Polystyrene Resins | X |  | X
Resin Manufacturing | EPA-450/3-83-006—Control of VOC Fugitive Emissions from Synthetic Organic Chemical Polymer and Resin Manufacturing Equipment | X |  | X
Refineries | EPA-450/2-77-025—Control of Refinery Vacuum Producing Systems, Wastewater Separators, and Process Unit Turnarounds | X |  | X
Refineries | EPA-450/2-78-036—Control of VOC Leaks from Petroleum Refinery Equipment | X |  | X
Rubber Tire Manufacturing | EPA-450/2-78-030—Control of Volatile Organic Emissions from Manufacture of Pneumatic Rubber Tires | X |  | X
Ship Coatings | 61 FR 44050 Shipbuilding and Ship Repair Operations (Surface Coating) | X |  | X
Ship Coatings | EPA-453/R-94-032—Alternative Control Technology Document—Surface Coating Operations at Shipbuilding and Ship Repair Operations (Surface Coating) |  |  | X
Solvent Cleaning Degreasers | EPA-450/2-77-022—Control of Volatile Organic Emissions from Solvent Metal Cleaning | X |  | X
Synthetic Organic Chemical Manufacturing | EPA-450/3-84-015—Control of VOC Emissions from Air Oxidation Processes in Synthetic Organic Chemical Manufacturing Industry | X |  | X
Synthetic Organic Chemical Manufacturing | EPA-450/4-91-031—Control of VOC Emissions from Reactor Processes and Distillation Operations in Synthetic Organic Chemical Manufacturing Industry | X |  | X
Wood Coating Factory Surface of Flat Wood Paneling | EPA-450/2-78-032—Control of Volatile Organic Emissions from Existing Stationary Sources—Volume VII: Factory Surface of Flat Wood Paneling | X |  | X
Wood Furniture Coating | EPA-453/R-96-007—Control of VOC Emissions from Wood Furniture Manufacturing Operations | X |  | X

[FR Doc. 2015-16627 Filed 7-7-15; 8:45 am]

BILLING CODE 6560-50-P